DEPARTMENT OF DEFENSE

GENERAL SERVICES ADMINISTRATION

NATIONAL AERONAUTICS AND SPACE ADMINISTRATION

[OMB Control No. 9000-0183; Docket No. 2014-0055; Sequence 13]

Information Collection; Preventing Personal Conflicts of Interest for Contractor Employees Performing Acquisition Functions

AGENCY: Department of Defense (DOD), General Services Administration (GSA), and National Aeronautics and Space Administration (NASA).

ACTION: Notice of request for public comments regarding an extension, to an existing OMB clearance.

SUMMARY: Under the provisions of the Paperwork Reduction Act (44 U.S.C. chapter 35), the Regulatory Secretariat Division (MVCB) will be submitting to the Office of Management and Budget (OMB) a request to review an extension of a currently approved information collection requirement regarding Preventing Personal Conflicts of Interest for Contractor Employees Performing Acquisition Functions. This request for extension relates to FAR case 2013-022, Extension of Limitations on Contractor Employee Personal Conflicts of Interest, proposed rule, which published updated burden hours in the Federal Register at 79 FR 18503 on April 2, 2014.

DATES: Submit comments on or before August 11, 2014.

ADDRESSES: Submit comments identified by Information Collection 9000-0183, Preventing Personal Conflicts of Interest for Contractor Employees Performing Acquisition Functions by any of the following methods:

• Regulations.gov: http://www.regulations.gov. Submit comments via the Federal eRulemaking portal by searching the OMB control number 9000-0183. Select the link “Comment Now” that corresponds with “Information Collection 9000-0183, Preventing Personal Conflicts of Interest for Contractor Employees Performing Acquisition Functions”. Follow the instructions provided on the screen. Please include your name, company name (if any), and “Information Collection 9000-0183, Preventing Personal Conflicts of Interest for Contractor Employees Performing Acquisition Functions” on your attached document.

• Fax: 202-501-4067.

• Mail: General Services Administration, Regulatory Secretariat Division (MVCB), 1800 F Street NW., Washington, DC 20405-0001. ATTN: Ms. Flowers/IC 9000-0183.

Instructions: Please submit comments only and cite Information Collection 9000-0183, Preventing Personal Conflicts of Interest for Contractor Employees Performing Acquisition Functions, in all correspondence related to this collection. All comments received will be posted without change to http://www.regulations.gov, including any personal and/or business confidential information provided.

FOR FURTHER INFORMATION CONTACT: Ms. Cecelia L. Davis, Procurement Analyst, Acquisition Policy Division, GSA 202-219-0202 or email cecelia.davis@gsa.gov.

SUPPLEMENTARY INFORMATION:

A. Purpose

This is a request for an extension of an existing information collection requirement concerning the Office of Management and Budget (OMB) Control Number 9000-0183, Preventing Personal Conflicts of Interest for Contractor Employees Performing Acquisition Functions. The request uses the burden hours provided in the proposed FAR rule (2013-022).

The proposed rule expands the coverage and proposes to amend the FAR by implementing section 829 of the National Defense Authorization Act for Fiscal Year 2013 (Pub. L. 112-239) to extend the limitations on contractor employee personal conflicts of interest to apply to the performance of all functions that are closely associated with inherently governmental functions (not just acquisition functions) and to contracts for personal services (to the extent such contracts are authorize by law, e.g., legal or medical services).

In the current information collection, Section 841(a) requires the Administrator for Federal Procurement Policy to develop and issue a standard policy to prevent personal conflicts of interest by contractor employees performing acquisition functions closely associated with inherently governmental function, and an associated personal conflicts-of-interest clause or set off clauses.

Contractors are required to notify contracting officers whenever they become aware of any personal conflict of interest violations by a covered employee. The objective of the notification requirement is to emphasize the critical importance of integrity in contracting and reduce the occurrence of personal conflict-of-interest violations by contractor employees performing acquisition-related functions.

In addition, contractors have the opportunity, in exceptional circumstances, to request mitigation or waiver of the personal conflict-of-interest standards. The information is used by the Government to evaluate the requested mitigation/waiver.

B. The Annual Reporting Burden Estimated as Follows

Respondents: 188.

Responses per Respondent: 1.

Total Responses: 188.

Hours per Response: 30.

Total Burden Hours: 5640.

The annual recordkeeping burden is estimated as follows:

Recordkeepers: 9,361.

Hours per recordkeeper: 59.

Total recordkeeping hours: 552,299.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405-0001, telephone 202-501-4755. Please cite OMB Control No. 9000-0183, Preventing Personal Conflicts of Interest for Contractor Employees Performing Acquisition Functions, in all correspondence.

Dated: June 6, 2014.
Karlos Morgan,
Acting Director, Federal Acquisition Policy Division, Office of Government-wide Acquisition Policy, Office of Acquisition Policy, Office of Government-wide Policy.

[FR Doc. 2014-13643 Filed 6-10-14; 8:45 am]

BILLING CODE 6820-EP-P